DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 6, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: 7 CFR part 225, Summer Food Service Program.

OMB Control Number: 0584-0280.

Summary of Collection: Section 13 of the Richard B. Russell National School Lunch Act (42 U.S.C. 1758), as amended, authorizes the Summer Food Service Program (SFSP). The SFSP is directed toward children in low-income areas when school is not in session and is administered by FNS in partnership with State agencies and local program sponsors. Approved sponsors may include public or private non-profit school food authorities (SFAs), public or private non-profit residential summer camps, units of local, municipal, county or State governments, or other private non-profit organizations that develop a special summer program and provide meal service similar to that available to children during the school year under the National School Lunch Program and the School Breakfast Program. Through this revision, FNS is adding two existing monitoring requirements into the collection which have been in use without approval. These requirements state that sponsors must visit each of their sites at least once during the first week of operation under the SFSP (7 CFR 225.15(d)(2)) and conduct a full review of food service operations at each site within the first four weeks of operation (7 CFR 225.15(d)(3)). This revision also resolves rounding issues found in the currently approved burden hours for the collection.

Need and Use of the Information: It is mandatory for the sponsors (who can either be State, Local, or Tribal or business/non-profit organization respondents) on an annual basis to visit each of their sites at least once during the first week of operation and to conduct a full review of the food service operations once at each site within the first four weeks of operation. Program sponsors use this information to ensure program integrity and to correct operational issues discovered at the sites. FNS uses this information to ensure compliance and to allocate and reimburse claims in a timely manner.

Description of Respondents: Individuals or households; Business or other for-profit; Non-profit institutions; and State, Local, or Tribal Government.

Number of Respondents: 63,942.

Frequency of Responses: Recordkeeping; Reporting; Third Party Disclosure (Public Disclosure): Annually.

Total Burden Hours: 462,699.

Ruth Brown,
Departmental Information Collection Clearance Officer.

[FR Doc. 2022-16687 Filed 8-3-22; 8:45 am]

BILLING CODE 3410-30-P